MORRIS K. UDALL AND STEWART L. UDALL FOUNDATION

The United States Institute for Environmental Conflict Resolution; Agency Information Collection Activities: Proposed Collection; Comment Request: See List of ICRs Planned for Submission to OMB in Section A

AGENCY: Morris K. Udall and Stewart L. Udall Foundation, U.S. Institute for Environmental Conflict Resolution.

ACTION: Notice.

SUMMARY: In compliance with the Paperwork Reduction Act (44 U.S.C. 3501 et seq.), this document announces that the U.S. Institute for Environmental Conflict Resolution (the U.S. Institute), a program of the Udall Foundation, is planning to submit the following requests to the Office of Management and Budget (OMB):

Information Collection: U.S. Institute Services

1. Request to renew with no changes two (2) currently approved information collections due to expire 8/31/2015 (OMB Control Numbers 3320-0005 and 3320-0006).

2. Request to establish one new information collection under a new OMB Control Number using seven (7) questions relating to environmental collaboration and conflict resolution (ECCR) services drawn from five (5) currently approved information collections due to expire on 6/30/2015 (OMB Control Numbers 3320-0004 and 3320-0010) and 8/31/2015 (OMB Control Numbers 3320-0003, 3320-0007, and 3320-0009). If the new collection request is approved, the five existing information collections will be discontinued together with any question not brought into the new information collection. The intent of this request is to reduce the burden and economic impact on respondents. The new information collection is proposed to a common form (see the “Supplementary Information” section).

Information Collection: Application for Membership in the Roster of Environmental Conflict Resolution Professionals (Roster)

1. Request to renew with minor, non-substantive changes to the format, one currently approved information collection due to expire 9/15/15 (OMB Control Number 3320-0008).

These requests are consolidated under one announcement to provide a more coherent picture of the U.S. Institute's information collection activities. The proposed collections are necessary to measure, improve, and report on U.S. Institute performance and delivery of its services. The collections are not expected to have a significant economic impact on respondents or to affect a substantial number of small entities.

Before submitting the ICRs to OMB for review and approval, the U.S. Institute requests comments on specific aspects of the proposed information collection as described at the beginning of the section labeled Supplementary Information.

The information collections can be downloaded from the Institute's Web site [http://www.udall.gov/News/NewsAndEvents.aspx].

Paper copies can be obtained from Stephanie Zimmt-Mack, General Counsel, The Morris K. Udall & Stewart L. Udall Foundation, 130 South Scott Avenue, Tucson, Arizona 85701, Fax: 520-901-8577 (confidential direct line), Phone: 520-901-8576, Email: zimmt-mack@udall.gov.

DATES: Comments must be submitted on or before August 14, 2015.

ADDRESSES: Submit your comments, referencing this Federal Register Notice by email to zimmt-mack@udall.gov, or by fax to 520-901-8577, or by mail to the attention of Stephanie Zimmt-Mack, General Counsel, The Morris K. Udall & Stewart L. Udall Foundation, 130 South Scott Avenue, Tucson, Arizona 85701.

SUPPLEMENTARY INFORMATION:

Overview

To comply with the Government Performance and Results Act (GPRA) (Pub. L. 103-62), the Udall Foundation produces an Annual Performance Report, linked directly to the goals and objectives outlined in its five-year Strategic Plan (http://udall.gov/documents/aboutus/UdallFoundationStrategicPlan.pdf). The U.S. Institute, as a program of the Udall Foundation, contributes performance data to the Udall Foundation's Annual Performance Report. The U.S. Institute's evaluation system is key to evaluating progress towards its performance goals. The U.S. Institute is committed to evaluating all of its projects, programs and services to measure and report on performance and also to use this information to learn from and improve its services. As part of the program evaluation system, the U.S. Institute collects specific information from participants in its programs and users of its services.

Specifically, this Federal Notice covers: (1) Evaluation of roster search services, training services and environmental collaboration and conflict resolution (ECCR) services, and application to the Roster of ECR Professionals. After delivery of services, such as a training, a roster search or utilization of U.S. Institute ECCR services, participants are asked to complete questionnaires evaluating the usefulness and effectiveness of those services. Responses are voluntary.

The U.S. Institute accomplishes much of its work by contracting with experienced environmental conflict resolution (ECR) professionals. In support of this work, and in support of its statutory mission to further the use of environmental conflict resolution, the U.S. Institute maintains the National Roster of Environmental Conflict Resolution Professionals (Roster). The Roster is publicly available and searchable for any party in need of environmental conflict resolution services. Submission of an application for membership in the Roster is entirely voluntary. Applicants provide qualifications and experience through an on-line application and the Institute determines eligibility for listing in the Roster against a published set of criteria. If approved for membership, the ECR professional completes a searchable Roster profile. This notice covers the collection of information through the application for membership in the Roster.

As previously stated, the U.S. Institute desires to make its proposed new ECCR Services information collection a common form. A “common form” is an information collection that can be used by two or more agencies, or government-wide, for the same purposes. The Office of Management and Budget (OMB) Common Forms Module allows a “host” agency to obtain OMB approval of an information collection for use by one or more “using” agencies. After OMB grants approval, any prospective using agency that seeks to collect identical information for the same purpose can obtain approval to use the “common form” by providing its agency-specific information to OMB (e.g., burden estimates and number of respondents).

Key Issues

The U.S. Institute invites comments that can be used to:

1. Evaluate whether the proposed collection of information is necessary for the proper performance of the U.S. Institute, including whether the information will have practical utility;

2. Enhance the quality, utility, and clarity of the information to be collected;

3. Minimize the burden of the information collection on respondents, including suggestions concerning use of automated collection techniques or other forms of information technology.

Section A. Information on Individual ICRs:

1. Roster Search Services:

Type of Information Collection: Renewal of a currently approved collection.

Title of Information Collection: Evaluation of Roster Program—Roster Services Searcher Questionnaire.

OMB Number: 3320-0005.

Affected Public: Business or other for-profit, not-for-profit, federal and state, local or tribal government.

Frequency: One time.

Annual Number of Respondents: 550.

Total Annual Responses: 550.

Average Burden per Response: 4 minutes.

Total Annual Hours: 37.

Total Burden Cost: $1,865.

2. Training Services:

Type of Information Collection: Renewal of a currently approved collection.

Title of Information Collection: Evaluation of Training Services—Training Services Participant Questionnaire.

OMB Number: 3320-0006.

Affected Public: Individuals or households, business or other for-profit, not-for-profit, federal and state, local or tribal government.

Frequency: One time.

Annual Number of Respondents: 288.

Total Annual Responses: 288.

Average Burden per Response: 5.5 minutes.

Total Annual Hours: 26.

Total Burden Cost: $1,310.

3. Environmental Collaboration and Conflict Resolution Services (new information collection):

Type of Information Collection: Consolidation into one collection of seven (7) currently approved collection questions from five (5) currently approved information collections, after which the use of those five information collections will be discontinued.

Title of Information Collection: Evaluation of Environmental Collaboration and Conflict Resolution Services—ECCR Services Participant Questionnaire.

OMB Number: New OMB control number.

Affected Public: Individuals or households, business or other for-profit, not-for-profit, federal and state, local or tribal government.

Frequency: One time.

Annual Number of Respondents: depending on service type—Assessment services: 24; all other services: 460.

Total Annual Responses: 484.

Average Burden per Response: 5 minutes.

Total Annual Hours: 41.

Total Burden Cost: $2,067.

4. Roster of ECR Professionals Membership application:

Type of Information Collection: Renewal with minor non-substantive changes in formatting of a currently approved collection.

Title of Information Collection: Application for National Roster of Environmental Dispute Resolution and Consensus Building Professionals.

OMB Number: 3320-0008.

Affected Public: Individuals or households, business or other for-profit, not-for-profit, federal and state, local or tribal government.

Frequency: One time.

Annual Number of Respondents: 25.

Total Annual Responses: 25.

Average Burden per Response: 2.5 hours.

Total Annual Hours: 62.5.

Total Burden Cost: $3,150.

Authority: 20 U.S.C. 5601-5609.

Dated: June 9, 2015.
Philip Lemanski,
Executive Director, Morris K. Udall & Stewart L. Udall Foundation.

[FR Doc. 2015-14659 Filed 6-12-15; 8:45 am]

BILLING CODE 6820-FN-P